DEPARTMENT OF EDUCATION

Reauthorization of the Higher Education Act; Notice of Request to Obtain Public Comments Related to the Reauthorization of the Higher Education Act

SUMMARY: The Secretary of Education (Secretary) is soliciting comments and recommendations from interested parties on proposals for amending and extending the Higher Education Act (HEA). To facilitate the receipt of these comments, the Department has established a web site from which users can transmit their comments, suggestions and ideas to the Department.

DATES: We request your comments on or before February 28, 2003. If possible, we will consider comments received after that date.

ADDRESSES: Comments concerning the reauthorization of the HEA should be transmitted via the Internet: http://www.ed.gov/offices/OPE/reauthorization. The Secretary encourages interested persons to take advantage of this user-friendly web interface. Interested persons wishing to submit comments by mail may address them to Jeffrey R. Andrade, Deputy Assistant Secretary for Policy, Planning and Innovation, Office of Postsecondary Education, 1990 K Street, NW., Room 8046, Washington, DC 20006 ATTENTION: HEA Reauthorization.

FOR FURTHER INFORMATION CONTACT: To obtain additional information about the Department's reauthorization web interface please call Daniel Pollard or Jean-Didier Gaina at (202) 502-7575.

If you use a telecommunication device for the deaf (TDD), you may call the Federal Information Relay Service (FIRS) at 1-800-877-8339.

Individuals with Disabilities may obtain this document in an alternative format (e.g., Braille, large print, audiotape, or computer diskette) on request to the person listed under ADDRESSES.

SUPPLEMENTARY INFORMATION: As we begin to consider proposals to reauthorize the HEA, we look to ensure that the significant amounts of funding for the programs authorized in the HEA are wisely spent. We also look to build upon successful program results in providing access to students and improving the quality of postsecondary education.

Background

Since the last reauthorization of the HEA in 1998, funding for the programs authorized under the HEA has increased significantly. Notably, the amount of Federal student aid available has been increased by $23 billion between 1998 and 2002. The fiscal year 2002 appropriations bill signed by President Bush on January 10, 2002, increased the Federal student aid available to students through the grant, loan, and work-study programs authorized by the HEA to a record $69 billion for an estimated 8.1 million students. The President's fiscal year 2003 budget request would provide Federal student aid to an additional 340,000 students.

Many of these increases have been directed to those HEA programs that serve the neediest students. For example, the Pell Grant maximum was increased from $3,000 in 1998 to $4,000 in 2002, and funding for the Pell Grant program has increased from $7.3 billion in 1998 to $10.3 billion in 2002. The amount appropriated for the Work-Study program increased 22 percent from 1998 to 2002 to more than $1 billion.

The period since the last reauthorization of the HEA has been a period of constant change and rapid growth for the Federal student loan programs. Education loans have become a valuable source of postsecondary student aid for many students and parents. The total amount borrowed annually, including consolidation loans, under the two major Federal loan programs, the Federal Family Education Loan (FFEL) Program-formerly the Guaranteed Student Loan (GSL) Program—and the William D. Ford Federal Direct Loan (Direct Loan) Program, has increased more than 50 percent, from $36 billion in fiscal year 1998 to an estimated $55 billion in fiscal year 2002.

Funding has also increased significantly for programs that aim to expand access and encourage first-generation, low-income, college students to attend and complete college. In fiscal year 2002, the Federal TRIO programs were funded at $803 million, an increase of 52 percent from 1998. These programs serve more than 850,000 at-risk students by providing outreach and support services, as well as information about postsecondary opportunities. Gaining Early Awareness and Readiness for Undergraduate Programs (GEAR UP) has grown significantly since its inception in 1998 and in fiscal year 2002 was funded at $285 million and serves 1.2 million students. Taken together, these programs represent more than $1 billion each year in annual funding and provide services to 2.1 million students from low-income families to help them enter and complete postsecondary education.

Funding for programs authorized by Title III of the HEA that strengthen the quality of institutions that serve large numbers of disadvantaged and minority students has also been increased since 1998. Specifically, funding for Historically Black Colleges and Universities (HBCUs) and Historically Black Graduate Institutions (HBGIs) has increased by 74 percent and 96 percent, respectively. Funding has also been increased for the Strengthening Institutions program to improve the academic quality, institutional management, and fiscal stability of a wide range of postsecondary institutions that serve large numbers of financially needy students by 33 percent.

Funding for the Hispanic-serving Institutions (HSIs) program authorized by Title V of the HEA has increased by $75 million—a six-fold increase. This program provides significant support to expand and enhance the academic quality, institutional management, fiscal stability, and self-sufficiency of the colleges and universities that enroll large percentages of Hispanic students.

The emerging importance of American higher education in the international arena has also been reflected in the amount of funding for programs in this area. Appropriations for international education and foreign language studies have increased 63 percent from 1998 to 2002.

Many of the programs authorized under the HEA work well and provide a strong foundation of support for higher education. Some need to be made more effective in achieving better results. As part of reauthorization, we will consider how to make the HEA programs work better and complement the President's efforts to ensure that all Federal programs focus on stronger accountability for results.

Goals and Objectives for HEA Reauthorization

The Department's goal is to develop proposals that will best use the significant levels of funding for the HEA programs, build upon the successful results in those programs, improve the quality of and access to postsecondary education, promote greater emphasis on achieving results, improve student achievement, and ensure accountability for taxpayer funds.

The Secretary has already established several goals and objectives in the Department's strategic plan that relate directly to the programs authorized under the HEA:

Enhance the Quality of and Access to Postsecondary and Adult Education

• Reduce the gaps in college access and completion among student populations differing by race/ethnicity, socioeconomic status, and disability while increasing the educational attainment of all.

• Enhance efforts to prepare low-income and minority youth for college.

• Increase public communication about postsecondary options.

• Improve student support services.

• Highlight effective strategies for nontraditional students.

• Provide support to students with disabilities.

Strengthen Accountability of Postsecondary Institutions

• Refine the teacher quality accountability system mandated by Title II of the HEA.

• Create a reporting system on retention and completion that is useful for State accountability systems.

Establish Effective Funding Mechanisms for Postsecondary Education

• Investigate postsecondary funding strategies.

• Improve the efficiency of the Federal student aid process.

Strengthen HBCUs, HSIs, and Tribal Colleges and Universities (TCUs)

• Offer technical assistance for planning, implementation, and evaluation.

• Assist in promoting the technology infrastructure of institutions serving low-income and minority students.

• Collaborate with HBCUs, HSIs, and TCUs on K-12 improvement efforts.

Develop and Maintain Financial Integrity and Management and Internal Controls

• Increase the use of performance-based contracting.

Manage Information Technology Resources Using Electronic Communication and Record Storage, to Improve Services for our Customers and Partners

• Encourage customers to conduct business with the Department on-line.

Modernize the Federal Student Aid Programs and Reduce Their High-Risk Status

• Create a more efficient Federal student aid delivery system.

• Improve program monitoring.

Achieve Budget and Performance Integration to Link Funding Decisions to Results

• Document program effectiveness.

In addition, the Department also plans to apply its Department-wide objectives to programs authorized under the HEA:

Link Federal Education Funding to Accountability for Results

• Create performance-based grants.

Increase Flexibility and Local Control

• Increase flexibility for grantees and recipients within Federal Programs

Increase Information and Options for Parents

• Expand choice in Federal programs.

Encourage the Use of Scientifically Based Methods Within Federal Education Programs

• Revise grant applications to reflect scientifically based research.

• Work with the Congress to embed scientifically based research in all Federal programs.

Improve the Performance of All High School Students

• Increase learning options for students.

Improve Teacher and Principal Quality

• Reduce barriers to teaching for highly qualified individuals.

• Improve the quality of teacher preparation programs.

Leverage the Contributions of Community- and Faith-Based Organizations To Increase the Effectiveness of Department Programs

• Provide technical assistance and outreach.

• Remove regulatory barriers to the full participation of faith-based organizations.

• Implement novice applicant procedures.

• Eliminate statutory barriers to full participation of faith-based organizations.

Questions for Public Comment

We are seeking comments and recommendations on the issues and ideas presented here, as well as the following questions, as we begin to consider proposals for the reauthorization of the HEA.

a. How can we improve access and promote additional educational opportunity for all students, especially students with disabilities, within the framework of the HEA? How can the Federal Government encourage greater persistence and completion of students enrolled in postsecondary education?

b. How can existing HEA programs be changed and made to work more efficiently and effectively? In what ways do they need to be adapted or modified to respond to changes in postsecondary education that have occurred since 1998?

c. How can the HEA programs be changed to eliminate any unnecessary burdens on students, institutions, or the Federal Government, yet maintain accountability of Federal funds? How can program requirements be simplified, particularly for students?

d. How can we best prioritize the use of funds provided for postsecondary education and the benefits provided under the HEA programs? How can the significant levels of Federal funding already provided for the HEA programs best help to further the goals of improving educational quality, expanding access, and ensuring affordability?

e. Are there innovative and creative ways the Federal Government can integrate tax credits, deductions, and tax-free savings incentives with the Federal student aid programs in the HEA to improve access to and choice in postsecondary education?

f. What results should be measured in each HEA program to determine the effectiveness of that program?

g. Are there other ideas or initiatives that should be considered during reauthorization that would improve the framework in which the Federal Government promotes access to postsecondary education and ensures accountability of taxpayer funds?

Invitation To Comment

Interested persons are invited to submit comments and recommendations regarding the reauthorization of the Higher Education Act. All comments submitted in response to this notice will be available for public inspection, during and after the comment period at 1990 K Street, NW., 8th floor, Washington, DC, between the hours of 9 a.m. and 4 p.m., Monday through Friday of each week except Federal holidays.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

Dated: December 16, 2002.
Sally L. Stroup,
Assistant Secretary, Office of Postsecondary Education.

[FR Doc. 02-32089 Filed 12-19-02; 8:45 am]

BILLING CODE 4000-01-P